DEPARTMENT OF LABOR

Employment and Training Administration

[TA-W-52,797]

Alcatel, Allen, TX; Notice of Termination of Investigation

Pursuant to section 221 of the Trade Act of 1974, as amended, an investigation was initiated on September 11, 2003, in response to a worker petition filed on behalf of workers at Alcatel, Allen, Texas.

The petitioners did not supply information sufficient to create a valid petition. The product affected by imports was not identified. Allegations regarding job loss due to imports at Allen, Texas, are also omitted. Thus, the petition is invalid and the investigation has been terminated.

Signed at Washington, DC, this 8th day of December, 2003.
Elliott S. Kushner,
Certifying Officer, Division of Trade Adjustment Assistance.

[FR Doc. 03-31455 Filed 12-19-03; 8:45 am]

BILLING CODE 4510-30-P